DEPARTMENT OF HOMELAND SECURITY

Bureau of Immigration and Customs Enforcement

[DHS-2005-0050]

Privacy Act of 1974; System of Records

AGENCY: Bureau of Immigration and Customs Enforcement; Department of Homeland Security

ACTION: Notice of Privacy Act system of records.

SUMMARY: The Bureau of Immigration and Customs Enforcement in the Department of Homeland Security is creating a new system of records to be used in the management of case and document information by attorneys working for the Office of the Principal Legal Advisor in the preparation and presentation of cases for a court or adjudicative body before which the Bureau of Immigration and Customs Enforcement or the Department of Homeland Security is authorized or required to appear.

DATES: The new system of records will be effective May 1, 2006, unless comments are received that result in a contrary determination.

ADDRESSES: You may submit comments, identified by docket number, by one of the following methods:

• Federal eRulemaking Portal: http://www.regulations.gov. Follow the instructions for submitting comments.

• Mail: William C. Birkett, Chief, Knowledge Management Division, Office of the Principal Legal Advisor, Immigration and Customs Enforcement, 425 I Street, NW., Washington, DC 20536; Chief Privacy Officer, Department of Homeland Security, 601 South 12th Street, Arlington, VA 22202-4220.

• Fax: (202) 514-0455 (not toll-free).

• Hand Delivery/Courier: Department of Homeland Security, 245 Murray Lane, SW., Building 410, Washington, DC 20528.

FOR FURTHER INFORMATION CONTACT: William C. Birkett, Chief, Knowledge Management Division, Office of the Principal Legal Advisor, Immigration and Customs Enforcement, 425 I Street, NW., Washington, DC 20536, at (202) 514-6761.

SUPPLEMENTARY INFORMATION: Interested persons are invited to participate in this rulemaking by submitting written data, views, or arguments on all aspects of this notice. Comments that will provide the most assistance to the Bureau of Immigration and Customs Enforcement in developing these procedures will reference a specific portion of the notice, explain the reason for any recommended change, and include data, information, or authority that support such recommended change.

Instructions: All submissions received must include the agency name and docket number for this rulemaking. All comments received will be posted without change to http://www.regulations.gov, including any personal information provided.

Docket: For access to the docket to read background documents or comments received, go to http://www.regulations.gov.

In accordance with the requirements of the Privacy Act of 1974, as amended, 5 U.S.C. 552a, the Bureau of Immigration and Customs Enforcement (ICE) of the Department of Homeland Security (DHS) is giving notice that it proposes to implement a new system of records entitled “the General Counsel Electronic Management System” (GEMS). This system will consist of information that is created and used by attorneys working for ICE in the preparation and presentation of cases for a court or adjudicative body before which ICE or DHS is authorized or required to appear. The system will supplement and ultimately replace the current attorney work product paper files that are primarily stored and managed in the hardcopy alien file commonly known as the “A-file.”

The ICE Office of the Principal Legal Advisor (OPLA) is responsible for the prosecution and/or management of cases before the federal courts, immigration courts, and other tribunals where immigration case matters are presented. Because of its significant caseload, OPLA is presented with a tremendous data management problem. Recent changes to the immigration laws and increasing numbers of cases require changes and improved efficiency in the maintenance of case records and attorney work product regarding immigration matters. The proposed system will provide OPLA attorneys and other DHS and Department of Justice (DOJ) attorneys, who have a need for this information in the performance of their duties representing the agency real time, access to documents and attorney notes concerning the status and processing of immigration matters to multiple authorized users at their desktops and greatly reduce their reliance on the need to access the paper A-file.

GEMS consists of customized off-the-shelf software that has been developed to meet the growing needs for information management in the attorney field operations and attorney management offices of ICE. Although records will be maintained in GEMS by alien registration number, GEMS will provide attorneys and their supervisors with the ability to collect and locate case information without complete reliance on the physical A-file. In addition to maintaining investigative materials collected for the adjudication of immigration cases, GEMS will allow attorneys to store their case notes, other hearing related information, and briefs and memoranda related to cases. This should not only facilitate the work of the ICE attorneys involved in the case, but should also provide a legal resource for other attorneys who may be working on similar matters. The system will also provide management capabilities for tracking time and effort expended in the preparation and presentation of cases for a court or adjudicative body before which the ICE or DHS is authorized or required to appear.

The Privacy Act embodies fair information principles in a statutory framework governing the means by which the United States Government collects, maintains, uses, and disseminates personally identifiable information. The Privacy Act applies to information that is maintained in a “system of records.” A “system of records” is a group of any records under the control of an agency from which information is retrieved by the name of the individual or by some identifying number, symbol, or other identifying particular assigned to the individual.

The Privacy Act requires each agency to publish in the Federal Register a description denoting the type and character of each system of records that the agency maintains, and the routine uses that are contained in each system to make agency recordkeeping practices transparent, to notify individuals regarding the uses to which personally identifiable information is put, and to assist the individual to more easily find such files within the agency. Individuals may request their own records that are maintained in a system of records in the possession or under the control of DHS by complying with DHS Privacy Act regulations (6 CFR 5.21). ICE is hereby publishing the description of the GEMS system of records. In accordance with 5 U.S.C. 552a(r), a report of this new system of records has been provided to the Office of Management and Budget (OMB) and to the Congress.

DHS/ICE/OPLA-001

SYSTEM NAME:

General Counsel Electronic Management System (GEMS).

SECURITY CLASSIFICATION:

Unclassified and classified.

SYSTEM LOCATION:

This system of records is under the control of the Principal Legal Advisor, Bureau of Immigration and Customs Enforcement, Department of Homeland Security, in Washington, DC and in the field offices for the Office of Principal Legal Advisor located throughout the United States.

CATEGORIES OF INDIVIDUALS COVERED BY THE SYSTEM:

A. Individuals covered by provisions of the Immigration and Nationality Act.

B. Individuals who are under investigation, or who were investigated by ICE in the past, or who are suspected of violating the criminal or civil provisions of statutes, treaties, Executive Orders, and regulations administered by ICE, and witnesses and informants or other third parties who may have knowledge of such violations.

C. ICE attorneys and other employees who have been assigned to represent the agency in litigation relating to aliens and other individuals whose files are contained in the system.

CATEGORIES OF RECORDS IN THE SYSTEM:

A. The system will contain attorney work product consisting of pre-trial notes, trial notes, post-trial notes, memoranda stating positions for litigation in draft or final form, notes to investigators, and information from hardcopy and online research.

B. The system will contain personal identification data such as the A-file number, date, and place of birth, date and port of entry, as well as the location of each official hardcopy paper file known as the “A-file.”

C. The system will contain subsets or complete sets of information also contained in the hard copy A-file that may include the alien's official record material, such as naturalization certificates; various forms (and attachments such as photographs); applications and petitions for benefits under the immigration and nationality laws; reports of investigations; statements; arrest reports; correspondence; and memoranda on each individual for whom ICE has created a record under the Immigration and Nationality Act.

PURPOSE:

The system is for the benefit of ICE attorneys and attorney management to be used for the tracking, processing, and reporting on the preparation and presentation of cases for a court or adjudicative body before which the ICE or the DHS is authorized to appear. The system will enable ICE to carry out its assigned national security, law enforcement, immigration control, and other mission related functions and to provide associated management reporting, planning and analysis.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed outside DHS as a routine use pursuant to 5 U.S.C. 552a(b)(3) as follows:

A. To other federal, state, tribal, and local government law enforcement and regulatory agencies and foreign governments, individuals and organizations during the course of an investigation or the processing of a matter, or during a proceeding within the purview of the immigration and nationality laws, to elicit information required by ICE to carry out its functions and statutory mandates.

B. To the Department of Justice or other federal agency conducting litigation or in proceedings before any court, adjudicative or administrative body, when: (a) DHS, or (b) any employee of DHS in his/her official capacity, or (c) any employee of DHS in his/her individual capacity where DOJ or DHS has agreed to represent the employee, or (d) the United States or any agency thereof, is a party to the litigation or has an interest in such litigation, and DHS determines that disclosure is relevant and necessary to the litigation.

C. To a Federal, state, tribal, local or foreign government agency in response to its request, in connection with the hiring or retention of an employee, the issuance of a security clearance, the reporting of an investigation of an employee, the letting of a contract, or the issuance of a license, grant, or other benefit by the requesting agency, to the extent that the information is relevant and necessary to the requesting agency's decision on the matter.

D. To a Member of Congress or staff acting on the Member's behalf when the Member or staff requests the information on behalf of and at the request of the individual who is the subject of the record.

E. To the news media and the public when there exists a legitimate public interest in the disclosure of the information or when disclosure is necessary to preserve confidence in the integrity of the Department or is necessary to demonstrate the accountability of the Department's officers, employees, or individuals covered by the system, except to the extent it is determined that release of the specific information in the context of a particular case would constitute an unwarranted invasion of personal privacy.

F. To the National Archives and Records Administration or other federal government agencies in records management inspections conducted under the authority of 44 U.S.C. 2904 and 2906.

G. To contractors, grantees, experts, consultants, students, and others performing or working on a contract, service, grant, cooperative agreement, or other assignment for the Federal Government, when necessary to accomplish an agency function related to this system of records.

H. To appropriate government agencies or organizations (regardless of whether they are Federal, state, territorial, local, foreign, international, or tribal), lawfully engaged in collecting law enforcement (whether civil, criminal, or administrative) or intelligence information and/or charged with investigating, prosecuting, enforcing, or implementing civil and/or criminal laws, related rules, regulations, or orders, to enable these entities to carry out their law enforcement and intelligence responsibilities.

I. To a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

POLICIES AND PRACTICES FOR STORING, RETRIEVING, ACCESSING, RETAINING, AND DISPOSING OF RECORDS IN THE SYSTEM STORAGE:

Records in the system will be stored in a central computer database.

RETRIEVABILITY:

Records in the system are indexed and retrieved by an individual's alien number, name, case information (such as hearing location and type of hearing), and other criteria that can identify an individual in proceedings in a court or adjudicative body before which ICE or the DHS is authorized to appear.

SAFEGUARDS:

ICE offices are located in buildings under security guard, and access to premises is by official identification. All electronic records are stored in systems that are in offices that are locked during non-duty office hours. Access to electronic records is controlled by passwords and name identification and access to this system is monitored. The system is protected through a multi-layer security approach. The protective strategies are physical, technical, administrative and environmental in nature and provide access control to sensitive data, physical access control to DHS facilities, confidentiality of communications, authentication of sending parties, and personnel screening to ensure that all personnel with access to data are screened through background investigations commensurate with the level of access required to perform their duties.

RETENTION AND DISPOSAL:

The retention and disposal requirements for the GEMS database are pending approval by the National Archives and Records Administration.

SYSTEM MANAGER(S) AND ADDRESS:

The System Manager is located in the Office of the Principal Legal Advisor, Chief of the Knowledge Management Division, 425 I Street NW., Washington, DC 20536.

NOTIFICATION PROCEDURE:

Address all inquiries to the system manager identified above.

RECORD ACCESS PROCEDURE:

To determine whether this system contains records relating to you, you may write to the Freedom of Information Act/Privacy Act (FOIA/PA) officer at the Immigration and Customs Enforcement, Information Disclosure Office, 425 I Street, NW., Washington, DC 20536. Requests should conform to the requirements of 6 CFR part 5, subpart B, which provides the rules for requesting access to Privacy Act records maintained by DHS, including the following: The envelope and letter should be clearly marked “Privacy Act Access Request.” The request should include a general description of the records sought and must include the requester's full name, current address, and date and place of birth. The request must be signed and either notarized or submitted under penalty of perjury. The envelope and letter shall be clearly marked Privacy Access Request. The request must include a description of the general subject matter, the related file number if known, and any other identifying information that may be of assistance in locating the record.

CONTESTING RECORDS PROCEDURES:

Same as “Record Notification Procedures” above.

RECORD SOURCE CATEGORIES:

The information in this system is supplied by attorneys and others providing legal support to ICE for the adjudication of cases. Other information in this system is derived from the alien file maintained on individuals, and may include investigative material that provides the basis for the legal proceedings.

EXEMPTIONS CLAIMED FOR THIS SYSTEM:

The Secretary has exempted this system from subsections (c)(3) and (4), (d), (e)(1), (2), and (3), (e)(4)(G) and (H), (e)(5) and (8), and (g) of the Privacy Act. These exemptions apply only to the extent that records in the system are subject to exemption pursuant to 5 U.S.C. Sections 552a (j)(2) and (k)(1) and (k)(2).

Dated: March 23, 2006.
Maureen Cooney,
Acting Chief Privacy Officer.

[FR Doc. E6-4699 Filed 3-30-06; 8:45 am]

BILLING CODE 4410-10-P